DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 A.M. and 5 P.M., U.S. Department of Commerce, Room 2104, 14th and Constitution Avenue, NW., Washington, DC.

Docket Number: 06-047. Applicant: University of Alabama, 201 7th Ave., A129 Bevill Building, Tuscaloosa, AL 33487. Instrument: Electron Microscope, Model Quanta 200 3D. Manufacturer: FEI, Czech Republic. Intended Use: The instrument is intended to be used to prepare transmission electron microscopy specimen foils and perform intricate cutting operations at the nano-scale for basic research programs on fuel cells, magnetic information storage, catalysis, joining and thin films using materials including Pt-alloy nanoparticles, TiAl thin film coatings and Cu-Sn alloys for welding. It will also be used for student training and operation. Application accepted by Commissioner of Customs: July 1, 2006.

Docket Number: 06-048. Applicant: Harvard Medical School, 25 Shattuck Street, Boston, MA 02115. Instrument: UV/Vis Upgrade for a Confocal Microscope. Manufacturer: Evotech, Germany. Intended Use: The article is intended to be used as a compatible accessory for an existing Evotec Opera 2.0 System. This extension is an integral part of the Opera platform and needs to be installed into the body of the microscope system for performing wide-field fluorescence microscopy, allowing detection of a greater number of fluorophores used to label structures or proteins of interest in cells. Application accepted by Commissioner of Customs: July 24, 2006.

Docket Number: 06-049. Applicant: Harvard Medical Center, 25 Shattuck Street, Boston, MA 02115. Instrument: Twister II Plate Handling Robotic Extension for a Confocal Microscope. Manufacturer: Evotech, Germany. Intended use: The article is intended to be used as a compatible accessory for an existing Evotec Opera 2.0 System. Although the article is a product of Caliper LifeSciences, a U.S. company, it was sent to Germany where Evotec engineers installed it in order to insure seamless operation with the high-throughput microscope system. It allows automatic loading of tissue-culture plates onto the stage of the microscope for continuous unattended operation. Application accepted by Commissioner of Customs: July 24, 2006.

Docket Number: 06-050. Applicant: The University of Illinois at Urbana-Champaign, 616 E. Green Street, Suite 212 Champaign, IL 61820. Instrument: Electron Microscope, Model JEM-2100. Manufacturer: JEOL, Ltd., Japan. Intended Use: The instrument is intended to be used, among other things, for studying (1) relations of structure to catalytic activity, (2) strain and composition distribution within nanostructures, (3) the effects of impurities on the strength of materials, (4) mechanisms for mixing of immiscible systems, (5) corrosion mechanisms and products, and (6) structural motifs of chromosome architecture and its modification. It will also be used for graduate student research. Application accepted by Commissioner of Customs: July 27, 2006.

Docket Number: 06-051. Applicant: Clemson University, AMRL Bldg, 91 Technology Drive, Anderson, SC 29625. Instrument: Electron Microscope, Model S-3400N. Manufacturer: Hitachi High-Technologies Corporation, Japan. Intended Use: The instrument is intended to be used to study: (1)cellular interaction with nano-particles and development of new materials, grain boundaries, erosion, fractured surfaces and failure analysis. (2) effects of temperature variations and heat treatment on formation of carbon nanotubes. (3) ultra-thin sectioning for evaluation of polymer films with embedded nano-structures and cellular studies of healthy and diseased cells. It will also be used in courses on microscopy and to train graduate students and staff in the use of electron microscopes. Application accepted by Commissioner of Customs: August 9, 2006.

Applicant: Docket Number: 06-052. Clemson University, AMRL Bldg, 91 Technology Drive, Anderson, SC 29625. Instrument: Electron Microscope, Model H-9500. Manufacturer: Hitachi High-Technologies Corporation, Japan. Intended Use: The instrument is intended to be used to study: (1)cellular interaction with nano-particles and development of new materials, grain boundaries, erosion, fractured surfaces and failure analysis. (2) effects of temperature variations and heat treatment on formation of carbon nanotubes and (3) ultra-thin sectioning for evaluation of polymer films with embedded nano-structures and cellular studies of healthy and diseased cells. It will also be used in courses on microscopy and to train graduate students and staff in the use of electron microscopes. Application accepted by Commissioner of Customs: August 9, 2006.

Applicant: Docket Number: 06-053. Clemson University, AMRL Bldg, 91 Technology Drive, Anderson, SC 29625. Instrument: Electron Microscope, Model S-4800. Manufacturer: Hitachi High-Technologies Corporation, Japan. Intended Use: The instrument is intended to be used to study: (1)cellular interaction with nano-particles and development of new materials, grain boundaries, erosion, fractured surfaces and failure analysis. (2) effects of temperature variations and heat treatment on formation of carbon nanotubes. (3) ultra-thin sectioning for evaluation of polymer films with embedded nano-structures and cellular studies of healthy and diseased cells. It will also be used in courses on microscopy and to train graduate students and staff in the use of electron microscopes. Application accepted by Commissioner of Customs: August 9, 2006.

Docket Number: 06-054. Applicant: Purdue University, 465 Northwestern Ave., West Laffayette, IN. Instrument: DFB, Fiber Laser System. Manufacturer: Koheras A/S, Denmark. Intended Use: The instrument is intended to be used to formulate a fundamental physical description of the noise processes of optical frequency combs and their application to Optical Arbitrary Waveform Generation by generating an ultrastable (ultra-low linewidth) optical frequency via intensity and phase modulation of this ultra-low linewidth CW laser, sweeping its carrier frequency and beating it with a “conventional” mode-locked, laser-based optical frequency comb. Optical frequency comb line-by-line pulse shaping with RF and ultra-fast optical detection and analysis will be employed. Application accepted by Commissioner of Customs: September 1, 2006.

Docket Number: 06-055. Applicant: Southern Illinois University, Image Center, 750 Communications Drive, Carbondale, IL 62901. Instrument: Electron Microscope, Model H-7650-II. Manufacturer: Hitachi High-Technologies Corporation, Japan. Intended Use: The instrument is intended to be used in a central, multidisciplinary facility for a wide range of research projects involving living organisms, their cell and structural details, man-made nanoparticles, friction and wear on various surfaces, etc., to digitally capture 3-D images for inspection, storage, and transmittal. It will also be used in training courses in microscopy for graduate students. Application accepted by Commissioner of Customs: August 26, 2006.

Docket Number: 06-056. Applicant: DHHS/Centers for Disease Control & Prevention/Infectious Disease Pathology, 1600 Clifton RD., NE, Mailstop G-32, Atlanta, GA 30333. Instrument: Transmission Electron Microscope, Model Technai G2 Spirit twin. Manufacturer: FEI, Company, The Netherlands. Intended Use: The instrument is intended to be used for performance, of among other things, thin section electron microscopy, immuno-electron microscopy, in situ electron microscopy, and negative stain microscopy. The primary educational purpose is derived by publication of research data and high resolution images obtained in the course of research as published in peer reviewed scientific journals as well as materials available for informing the general public. Application accepted by Commissioner of Customs: August 28, 2006.

Docket Number: 06-058. Applicant: University of Illinois at Chicago, Department of Physics m/c 273, 845 West Taylor Street, Chicago, IL 60607-7059. Instrument: Magnesium Fluoride Windows. Manufacturer: Laser-Laboratorium, Gottingen, Germany. Intended Use: The article is a compatible accessory to reduce glare and improve the beam quality associated with an excimer laser system made by the same manufacturer and used to study nonlinear optical phenomena and x-ray amplification in gases, solids, atomic clusters and plasmas. Measured quantities of x-rays and their spectral properties will be examined for an understanding of new physics associated with coherent x-ray production which will serve as a preamplifier in an ultraviolet laser system. Application accepted by Commissioner of Customs: October 5, 2006.

Gerald A. Zerdy,
Program Manager, Statutory Import Programs Staff.

[FR Doc. E6-18915 Filed 11-7-06; 8:45 am]

BILLING CODE 3510-DS-S